FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—07/03/2000
20003349 | Conexant Systems, Inc. | Pixo, Inc. | Pixo, Inc.
20003533 | Sync Research, Inc. | Osicom Technologies, Inc. | Osicom Technologies, Inc.
20003575 | Stichting Administratiekantoor VSH | Royal Nedlloyd N.V. | Davenport Mammoet Heavy Transport Inc.
|  | Mamoet Transport B.V.
|  |  | Mamoet Transport USA Inc.
|  |  | Mamoet Western Inc.
20003674 | Tyco International, Ltd | Kaiser Group International, Inc. | Kaiser Engineers Corporation.
|  |  | Kaiser Group International, Inc.
20003680 | Craig O. McCaw | Teledesic Corporation | Teledesic Corporation.
20003736 | Avista Corp. | Enron Corp. | Coyote Springs 2, L.L.C.
20003749 | Station Casinos, Inc. | Paul W. Lowden | Santa Fe Hotel Inc.
20003756 | Campbell Bewley Group Limited | Cucina Holdings, Inc. | Cucina Holdings, Inc.
20003765 | American States Water Company | Charles E. Hurwitz | Chaparral City Water Company.
20003766 | American Securities Partners, II, L.P. | Morgenthaler Venture Partners IV, L.P | Cambridge International, Inc.
20003776 | AXA | Dominion Resources, Inc. | First Dominion Capital, L.L.C.
20003780 | Quanta Services, Inc. | Christine Fluharty | MearsGroup, Inc.
20003782 | North Castle Partners II, L.P | Kathleen McCarty-Carey | Travel Corporation of America, Inc.
20003783 | North Castle Partners II, L.P | Betty Phillips | Travel Corporation of America, Inc.
20003784 | Media General, Inc. | Kenneth R. Thomson | Thomson Newspapers Inc.
20003785 | Wit Capital Group, Inc. | E*Offering Corp. | E*Offering Corp.
20003787 | Inktomi Corporation | Walt Disney Company (The) | Ultraseek Corporation.
20003790 | Stone & Webster, Incorporated (debtor-in-possession) | Jacobs Engineering Group Inc. | Jacobs Engineering Group Inc.
20003792 | Triump Partners III, L.P | Certus Corporation | Certus Corporation.
20003793 | Giovanni Agnelli e C.S.a.p.az | Arjo Wiggins Appleton p.l.c | Arjo Wiggins Appleton p.l.c.
20003796 | Anheuser-Busch Companies, Inc. | MB Acquisitions, Inc. | MB Acquisitions, Inc.
20003802 | Warburg, Pincus Equity Partners, L.P | Coventry Health Care, Inc. | Coventry Health Care, Inc.
20003804 | Bayer AG | Zambon S.p.A | Inpharzam International.
20003806 | Bayer AG | Forest Laboratories, Inc. | Inpharzam International
20003808 | Paul J. Dujardin | AT&T Corp. | Liberty Livewire Corporation.
20003810 | Microchip Technology Incorporated | Matsushita Electric Industrial Co., Ltd | Matsushita Semiconductor Corporation of America.
20003813 | Invensys plc | Baan Company N.V | Baan Company N.V.
20003814 | Pegasus Related Partners, L.P | Code-Alarm, Inc. | Code-Alarm, Inc.
20003818 | Clayton, Dubilier & Rice Fund VI Limited Partnership | Guidance Solutions, Inc. | Guidance Solutions, Inc.
20003820 | Ditech Communications Corporation | Atmosphere Networks, Inc. | Atmosphere Networks, Inc.
20003821 | Cedar Creek Partners, LLC | Denis Siemer | V-Tek, Inc.
20003829 | U.S. Propane, L.P | Heritage Holdings, Inc. | Heritage Holdings, Inc.
20003830 | Heritage Propane Partners, L.P | U.S. Propane, L.P | U.S. Propane, L.P.
20003835 | The Shaw Group Inc. | Stone & Webster, Incorporated (debtor-in-possession) | Stone & Webster, Incorporated (debtor-in-possession).
20003836 | Stone & Webster, Incorporated (debtor-in-possession) | The Shaw Group Inc. | The Shaw Group Inc.
20003858 | Oak Hill Capital Partners, L.P | General Motors Corporation | TravelCenters of America, Inc.
TRANSACTIONS GRANTED EARLY TERMINATION—07/05/2000
20003689 | Alloy Online, Inc. | Swander Pace Capital Fund, L.P | Kubic Marketing, Inc.
TRANSACTIONS GRANTED EARLY TERMINATION—07/07/2000
20003595 | A. Jerrold Perenchio | Entravision Communications Corporation | Entravision Communications Corporation.
20003770 | ADC Telecommunications, Inc. | Centigam Communications Corporation | Centigram Communications Corporation.
20003786 | Ralcorp Holdings, Inc. | Tomkins PLC | RHM Holdings (USA) Inc.
TRANSACTIONS GRANTED EARLY TERMINATION—07/10/2000
20003648 | Oak Investment Partners IX, Limited Partnership | Cogent Communications, Inc. | Cognet Communications, Inc.
20003675 | J.R. Simplot Company | ECO Soil Systems, Inc. | ECO Soil Systems, Inc.
20003688 | Gabriel Communications, Inc. | State Communications, Inc. | State Communications, Inc.
20003693 | Reed International P.L.C | Data West Corporation (d.b.a. CourtLink) | Data West Corporation (d.b.a. CourtLink)
20003694 | Elsevier NV | Data West Corporation (d.b.a. CourtLink) | Data West Corporation (d.b.a. CourtLink)
20003695 | Counsel Corporation | Star Telecommunications, Inc. | PT-1 Communications Inc.
20003707 | Cox Enterprises, Inc. | Lewis W. Dickey, Sr | Midwestern Broadcasting Company, Inc.
20003711 | Cox Enterprises, Inc. | Salem Communications Corporation | CXR Holdings, Inc.
20003712 | Salem Communications Corporation | Cox Enterprises, Inc. | Cox Enterprises, Inc.
20003739 | Choice One Communications Inc. | Ronald Vander Pol | US Xchange, Inc.
20003740 | Ronald Vander Pol | Choice One Communications Inc. | Choice One Communications Inc.
TRANSACTIONS GRANTED EARLY TERMINATION—07/03/2000
20003741 | Adelphia Communications Corporation | Allegheny Energy, Inc. | Allegheny Hyperion Telecommunications, LLC
20003763 | Bershire Hathaway Inc. | Credit Suisse Group | Republic Insurance Company
20003795 | Jonathan Reeves | Sycamore Networks, Inc. | Sycamore Networks, Inc.
20003807 | Advance Voting Trust | WeddingChannel.com, Inc. | WeddingChannel.com, Inc.
20003823 | Compass Group PLC | Viad Corp. | ProDine, Inc.
|  |  | Viad Corp.
20003824 | Berkshire Hathaway Inc. | Assicurazioni Generali, A.p.A. | Unione Italiana Reinsurance Company of America
20003826 | Green Equity Investors III, L.P. | Veterinary Centers of America | Veterinary Centers of America
20003828 | General Atlantic Partners 61, L.P. | Wit Capital Group, Inc. | Wit Capital Group, Inc.
20003834 | General Atlantic Partners 68, L.P. | Wit Capital Group, Inc. | Wit Capital Group, Inc.
20003839 | GAP Coinvestment Partners II, L.P. | Wit Capital Group, Inc. | Wit Capital Group, Inc.
20003846 | Cisco Systems, Inc. | Hewlett-Packard Company | Hewlett-Packard Company
20003855 | ING Groep N.V. | Iowa Network Services, Inc. | Iowa Telecommunications Services, Inc.
20003866 | Oak Hill Capital Partners, L.P. | TCA Acquisition Corporation | TCA Acquisition Corporation
20003872 | B III Capital Partners, L.P. | The Penn Traffic Company | The Penn Traffic Company
20003873 | WPS Resources Corporation | Cinergy Corp. | CinCapVI, LLC
20003881 | UBS AG | IFX Corporation | IFX Corporation
|  |  | Tutopia.com, Inc.
20003884 | General Motors Corporation | Conseco, Inc. | Consumer Acceptance Corporation
20003885 | CMGI, Inc. | MediaBridge Technologies, Inc. | MediaBridge Technologies, Inc.
20003886 | John Kent Cooke | Kenneth R. Thomson | Kenneth R. Thomson
20003888 | Popular, Inc. | Oriental Financial Group, Inc. | Oriental Bank & Trust
20003895 | Irwin Geduld | Merrill Lynch & Co., Inc. | Merrill Lynch & Co., Inc.
20003896 | John E. Herzog | Merrill Lynch & Co., Inc. | Merrill Lynch & Co., Inc.
20003901 | Hamphire Group, Limited | Martin Axman | Item-Eyes, Inc.
20003902 | Accor S.A. (a French company) | WorldRes.com, Inc. | WorldRes.com, Inc.
20003906 | Levine Leichtman Capital Partners, L.P. | Carole Little | California Fashion Industries, Inc.
20003907 | Levine Leichtman Capital Partners, L.P. | Leonard Rabinowitz | California Fashion Industries, Inc.
20003908 | Prosofttraining.com | R. William Pollock | ComputerPrep, Inc.
20003909 | Fendi S.r.l. | Irwin Tauber | Condotti Shops of Houstons, Inc.
|  |  | Condotti Shops, Inc.
20003910 | Kleiner Perkins Caufield & Buyers IX-A, L.P. | MyCFO, Inc. | MyCFO, Inc.
20003912 | Erikem Luxembourg S.A. | Huron Tech Corp. | Huron Tech Corp.
20003913 | Waste Corporation of America, Inc. | Waste Management, Inc. | Waste Management of Arkansas, Inc.
|  |  | Waste Management of Louisiana, L.L.C.
20003915 | Coming Incorporated | NextPath Technologies, Inc. | Willow Systems, Inc.
20003919 | Associates First Capital Corporation | Zale Corp. | Zale Funding Trust
20003920 | Code Hennessy & Simmons IV, L.P. | John Mansfield Group PLC | Waddington North America, Inc.
20003932 | Robert D. Phillips, Jr. | William Harkrider Trust | H&W Petroleum Company, Inc.
20003933 | Code, Hennessy & Simmons III, L.P. | Best Distributing Co. | Best Distributing Co.
20003936 | Robert D. Phillips, Jr. | Michael G. Barcum | Commercial Distributing, Inc.
20003937 | Global Crossing Ltd. | American Communications Network, Inc. | American Communications Network, Inc.
20003940 | Stephen Rosenberg | Extendicare Health Services, Inc. | Colonial Care Center
|  |  | Lexington Terrance
20003942 | Thomas H. Lee Equity Fund III, L.P. | The New York Times Company | Lakeland Ledger Publishing Corporation
|  |  | NYT Florida Holdings, Inc.
|  |  | NYT Management Services
|  |  | The Houma Courier Newspaper Corporation
20003945 | Berkshire Fund V, Limited Partnership | Casella Waste Systems, Inc. | Casella Waste Systems, Inc.
20003946 | Koninlijke Ahold nv | James and Jayne Kennelly | GFG Foodservice, Inc. GFG Real Estate, LLC
20003954 | Pearson plc | The Forum Corporation of North America | The Forum Corporation of North America
20003955 | E*TRADE Group, Inc. | Wit Capital Group, Inc. | Wit Capital Group, Inc.
20003957 | Yahoo! Inc. | eGroups, Inc. | eGroups, Inc.
20003958 | Stonebridge Partners Equity Fund II, L.P. | Louis A. deAntonio and Linda J. deAntonio | Hitech Corporation
20003961 | Jones Apparel Group, Inc. | Recovery Equity Investors II, L.P. | Victoria+Co. Ltd.
20003962 | The PNC Financial Services Group, Inc. | The Bank of Tokyo-Mitsubishi, Ltd. | BTM Capital Corporation
20003969 | UBS Capital Americas II, LLC | EYak, Inc. | EYak, Inc.
20003971 | The Interpublic Group of Companies, Inc. | James E. San Filippo | Daytona Productions, Inc.
|  |  | Waylon Promotions, Inc.
20003978 | America Online, Inc. | America Online Latin America, Inc. | America Online Latin America, Inc.
20003984 | Vivendi, S.A. | Novartis AG | Novartis Pharmaceuticals Corporation, Novartis Corporation
20003992 | MyPoints, Inc. | Cybergold, Inc. | Cybergold, Inc.
20003993 | Baker Communications Fund II (QP), LP | MimEcom Corporation | MimEcom Corporation
20003998 | Welsh, Carson, Anderson & Stowe IX, L.P. | CFW Communications Company | CFW Communications Company
20004001 | Technip | Stone & Webster, Incorporated (debtor-in-possession) | Stone & Webster, Incorporated (debtor-in-possession
TRANSACTIONS GRANTED EARLY TERMINATION—07/11/2000
20003362 | Public Service Company of New Mexico | Tri-State Generation and Transmission Association, Inc | Tri-State Generation and Transmission Association, Inc .
20003734 | W.W. Grainger, Inc | Works.com Holding, Inc | Works.com Holding, Inc.
20003735 | Hummer Winblad Venture Partners, III, L.P | Works.com Holding, Inc. | Works.com Holding, Inc.
20003773 | Jeffrey H. Smulyan | The Hearst Trust | Hearst-Argyle Properties, Inc.
20003778 | Atlantic Equity Partners III, L.P | Morris Rochlin | Foamade Industries, Inc.
20003781 | Christine Fluharty | Quanta Services, Inc | Quanta Services, Inc.
20003791 | Francisco Partners, L.P | Advanced Micro Devices, Inc | BoldCo, Inc.
20003815 | Adelphia Communications Corporation | Great Southern Printing and Manufacturing Company | GS Communications, Inc.
20003831 | VERITAS Software Corporation | Seagate Technology, Inc | Seagate Technology, Inc.
20003832 | Paul G. Allen | FVC.COM, Inc | FVC.COM, Inc.
20003843 | Rural LEC Acquisition, LLC | Sidney L. McDonald | Brindlee Mountain Telephone Company
20003847 | Churchill Downs Incorporated | Richard L. Duchossois | Arlington International Racecourse, Inc.
|  |  | Arlington Management Services, Inc.
20003848 | Richard L. Duchossois | Churchill Downs Incorporated | Turf Club of Illinois, Inc.
20003850 | Charterhouse Equity Partners III, L.P | Alliance One Incorporated | Alliance One Incorporated
20003851 | Triumph Group, Inc. | Loren L. Furnas | Airborne Nacelle Services, Inc.
|  |  | Airborne Supply, Inc.
|  |  | Chem-Fab Corporation
|  |  | FRS Partners d/b/a Master Tool Fabricators
20003852 | Triumph Group, Inc. | Estate of Ronald E. Reagan | Airborne Nacelle Services, Inc.
|  |  | Airborne Supply, Inc.
|  |  | Chem-Fab Corporation
|  |  | FRS Partners d/b/a Master Tool Fabricators
20003854 | AMEC PLC | Ogden Corporation | Ogden Environmental and Energy Services Co., Inc.
20003856 | Rio Tinto Limited | North Limited | North Limited
20003857 | Carlyle Bottling, L.L.C | Grant-Lydick Beverage Company | Grant-Lydick Beverage Company
20003859 | Microsoft Corporation | Paul E. Tuttle, Jr | Tuttle Decision Systems, Inc.
20003860 | Adelphia Communications Corporation | Benchmark Media, Inc | Benchmark Media, Inc.
20003863 | GTCR Fund VII, L.P | Thomas M. Rouse | ACS Merchant Services, Inc.
20003864 | Carlyle Partners III, L.P | The Reynolds and Reynolds Company | Dataforms, Inc.
|  |  | Information Solutions Group
20003865 | Dimeling, Schreiber and Park Reorganization Fund, II | Martin Color-Fi, Inc | Martin Color-Fi, Inc .
20003868 | JSB Software Technologies pic | Mattel, Inc | CP Assets, Inc.
20003869 | Advanced Radio Telecom Corp | Forest Communications, LLC | Forest Communications, LLC
20003871 | EarthLink, Inc | OneMain. com, Inc | OneMain. com, Inc.
20003875 | William H. Gates III | Craig O. McCaw | ICO-Teledesic Global Limited
20003880 | Coolbrands International, Inc | Eskimo Pie Corporation | Eskimo Pie Corporation
20003883 | EMSlcon Investments, LLC | Pensar Corporation | Pensar Corporation
20003900 | New York-Presbyterian Healthcare System, Inc | Westchester Square Medical Center, Inc | Westchester Square Medical Center, Inc
20003911 | James Clark | MyCFO, Inc. | MyCFO, Inc.
20003914 | Berkshire Hathaway, Inc | Justin Industries, Inc | Justin Industries, Inc.
20003917 | Pon Holdings B. V | Donald G. Moes | Bailey Forklift and Service Company, Ltd.
|  |  | Equipment Depot, Ltd., Equipment Depot of Dallas, Ltd.
20003923 | Homestake Mining Company | Hadley Case and Elizabeth M. Case | Bargold Corporation
20003924 | Hadley Case and Elizabeth M. Case | Homestake Mining Company | Homestake Mining Company
20003974 | Respond Communicatins, Inc | iPCS, Inc | iPCS, Inc.
20003975 | Geneseo Communications, Inc | iPCS, Inc | iPCS, Inc.
20003979 | Riverview Media Corp | America Online Latin America, Inc | America Online Latin America, Inc.
TRANSACTIONS GRANTED EARLY TERMINATION—07/12/2000
20002161 | Southern Union Company | Providence Energy Corporation | Providence Energy Corporation
20002164 | Southern Union Company | Valley Resources, Inc | Valley Resources, Inc.
20002172 | Southern Union Company | Fall River Gas Company | Fall River Gas Company
20003589 | CP&L Energy, Inc | Florida Progress Corporation | Florida Progress Corporation
20003652 | CSR Limited | F. Browne Gregg | FCS Holdings, Inc.
20003676 | Impala S.A | Solvay S.A | Solvay, S.A.
20003677 | Solvay, S.A | Impala S.A | Impala S.A.
20003737 | Calpine Corporation | Panada Energy International, Inc | PLC II, LLC
20003746 | James O. Hayles, Jr. and Myna C. Hayles, (husband & wife) | Paul E. Brown | DigiPH Communication, Inc.
|  |  | DigiPH Holding Company, Inc.
|  |  | DiGiPH PCS, Inc.
20003747 | James O. Hayles, Jr. and Myna C. Hayles, (husband & wife) | Mr. and Mrs. Darrell R. Brown, (husband & wife) | DigiPH Communication, Inc.
|  |  | DigiPH Holding Company, Inc.
|  |  | DiGiPH PCS, Inc.
20003771 | Calpine Corporation | Michael P. Polsky | Polsky Energy Corporation
20003772 | Michael P. Polsky | Calpine Corporation | Calpine Corporation
20003797 | Gannett Co., Inc. | Kenneth R. Thomson | The Thomson Company, Inc.
20003798 | Gannett Co., Inc. | Kenneth R. Thomson | The Thomson Corporation
|  |  | Thomson Newspapers Licensing Corporation
|  |  | Thomson Newspapers, Inc.
|  |  | TN Customer Holding Inc.
|  |  | TN Customer Holding LLC
20003799 | Gannett Co., Inc. | Kenneth R. Thomson | Thomson Newspapers Inc.
20003800 | Gannett Co., Inc. | Kenneth R. Thomson | Thomson Newspapers Inc.
20003801 | Gannett Co., Inc. | Kenneth R. Thomson | The Thomson Company, Inc.
20003891 | Cardinal Health, Inc. | Advanced Polymer Systems, Inc. | Advanced Polymer Systems, Inc.
20003931 | Whitehall Associates, L.P. | Borden Chemicals and Plastics Limited Partnership | Borden Chemicals and Plastics Limited Partnership
20003950 | Noranda Inc. | Falconbridge Limited | Falconbridge Limited
TRANSACTIONS GRANTED EARLY TERMINATION—07/13/2000
20003925 | Fremont Partners, L.P. | Triumph-California Limited Partnership | Precision Components Group, LLC
20003965 | The James S. Copley Marital Trust | Kenneth R. Thomson | Thomson Holdings, Inc.
TRANSACTIONS GRANTED EARLY TERMINATION—07/14/2000
19994334 | Joseph M. & Marie H. Field | Sinclair Broadcast Group, Inc. | Sinclair Broadcast Group, Inc.
20003640 | Carlyle Partners III, L.P. | Northrop Grumman Corporation | Northrop Grumman Corporation
20003723 | Phillips-Van Heusen Corporation | Vestar Capital Partners III, L.P. | Arrow Factory Stores Inc.
|  |  | Cluett Designer Group, Inc.
|  |  | Cluett, Peabody & Co., Inc.
|  |  | Consumer Direct Corporation
20003768 | ABN AMRO Holding N.V. | Resource America, Inc. | Fidelity Leasing, Inc.
20003982 | Itausa-Investimentos Itau, S.A. | America Online Latin America, Inc. | America Online Latin America, Inc.
20003994 | Safeguard Scientifics, Inc. | Atlas Commerce, Inc. | Atlas Commerce, Inc.
20003999 | Corus Group, plc | Kienle + Spiess Holding GmbH | Kienle + Spiess Stanz and Druckgiesswerk GmbH
20004002 | Charterhouse Equity Partners III, L.P. | Cap Gemini, S.A. | Cap Gemini, S.A.
20004010 | The BISYS Group, Inc. | Leonard L. Reynolds | Ascensus Insurance Services, Inc.
20004016 | Jonathan Burgstone | Ariba, Inc. | Ariba, Inc.
20004017 | Asif Satchu | Ariba, Inc. | Ariba, Inc.
20004019 | Ariba, Inc. | SupplierMarket.com, Inc. | SupplierMarket.com, Inc.
TRANSACTIONS GRANTED EARLY TERMINATION—07/17/2000
20003934 | Ferro Corporation | Solutia Inc. | Solutia Inc.
20003987 | Harvest Partners III, L.P. | GEEG Acquisition Holdings Corp. | GEEG Acquisition Holdings Corp.
20004034 | SSCI Investors LP | Croda International Plc | Croda International Plc
20004037 | TTL Information Technology AG | Jay L. Wertheimer | BDI Distributors, Inc.
TRANSACTIONS GRANTED EARLY TERMINATION—07/18/2000
20001136 | Citadel Communications Corporation | Robert G. Liggett, Jr. | Liggett Broadcast, Inc.
|  |  | LLJ Realty, LLC
|  |  | New Tower, Inc.
|  |  | Rainbow Radio, LLC
20003803 | Community Newspaper Holdings, Inc. | Kenneth R. Thomson | The Thomson Company, Inc.
20003887 | MKS Instruments, Inc. | Michael J. Dent | Spectra International, LLC
20003904 | Microsoft Corporation | CAIS Internet, Inc. | CAIS Internet, Inc.
20003921 | Lottomatica S.p.A. | Autotote Corporation | Autotote Corporation
20003929 | Innoveda, Inc. | Hiroshi Hashimoto | PADS Software, Inc.
20003952 | Hiroshi Hashimoto | Innoveda, Inc. | Innoveda, Inc.
20003991 | Brokat AG | Putera Sampoerna | Gemstone Systems, Inc.
20004004 | George G. Beasley | Gordon Gray 1956 Living Trust | Centennial Broadcasting, LLC
20004005 | George G. Beasley | Gordon Gray, Jr. | Centennial Broadcasting LLC
|  |  | Centennial Broadcasting Nevada, Inc.
20004007 | Wolseley Plc | Fairfax Lumber & Millwork Company, Incorporated | Fairfax Lumber & Millwork Company, Incorporated
20004013 | Mobex Communications, Inc. | American Commercial Lines Holdings LLC | Waterway Communications System LLC
20004023 | Brokat AG | Blaze Software, Inc. | Blaze Software, Inc.
TRANSACTIONS GRANTED EARLY TERMINATION—07/19/2000
20003985 | Partners Health Care Systems, Inc. | BWH Anesthesia Foundation, Inc. | BWH Anesthesia Foundation, Inc.
20003986 | Partners Health Care System, Inc. | Brigham Medical Group Foundation, Inc. | Brigham Medical Group Foundation, Inc.
20004025 | PA Holdings Limited | Hagler Bailly, Inc. | Hagler Bailly, Inc.
20004041 | Grove Hill Medical Center, P.C. | PhyCor, Inc. | PhyCor of New Britain, Inc.
TRANSACTIONS GRANTED EARLY TERMINATION—07/20/2000
20003960 | Enron Corp. | Columbia Energy Group | Columbia Energy Power Meeting Corporation
|  |  | Columbia Energy Retail Corporation
|  |  | Columbia Energy Services Corporation
TRANSACTIONS GRANTED EARLY TERMINATION—07/21/2000
20003842 | Maverick Tube Corporation | Prudential Steel Ltd. | Prudential Steel Ltd.
20003916 | Bell Atlantic Corporation | Kevin Douglas | Blackwater Cellular Corporation
20003930 | Jeffrey H. Smulyan | Sinclair Broadcast Group, Inc. | Sinclair Broadcast Group, Inc.
20003943 | Fortmann-Druhe-Mertens GmbH Co. Betteliligungs KG | Armstrong Holdings, Inc. | Armstrong World Indistries, Inc.
|  |  | The W.W. Henry Company
20003956 | Galen Holdings PLC | Warner Chilcott Public Limited Company | Warner Chilcott Public Limited Company
20003967 | Media/Communications Partners II Limited Partnership | CoreComm Limited | CoreComm Limited
20004003 | Covad Communications Group, Inc. | BlueStar Communications Group, Inc. | BlueStar Communications Group, Inc.
20004015 | Gannett Co., Inc. | BrassRing, Inc. | BrassRing, Inc.
20004020 | Kenny Industrial Services, L.L.C. | Canisco Resources, Inc. | Canisco Resources, Inc.
20004028 | Macrovision Corporation | Matthew Christiano, Sallie J. Calhoun (husband & wife) | GLOBEtrotter Software, Inc.
20004029 | Matthew Christiano, Sallie J. Calhoun (husband & wife) | Macrovision Corporation | Macrovision Corporation
20004030 | Aventis S.A. | Millennium Pharmaceuticals, Inc. | Millennium Pharmaceuticals, Inc.
20004031 | Millenium Pharmaceuticals Inc. | Aventis S.A. | Aventis Pharmaceuticals Inc.
20004032 | HMTF Equity Fund IV (1999), L.P. | ICG Communications, Inc. | ICG Communications, Inc.
20004035 | Warburg, Pincus Ventures, L.P. | SkillSoft Corporation | SkillSoft Corporation
20004040 | The May Department Stores Company | David's Bridal, Inc. | David's Bridal, Inc.
20004044 | Weaverman SA | Robert E. Norman | Southwestern Wire Cloth, Inc.
20004048 | Citizens Communications Company | Bell Atlantic Corporation | Contel of Minnesota, Inc., GTE West Coast Inc.
|  |  | GTE California Inc., GTE North Inc., GTE South Inc.
20004054 | IFCO Systems N.V. | William Haines | Bromley Pallet Recyclers of Alabama LLC
|  |  | Bromley Pallet Recyclers of Ft. Meyers LLC
|  |  | Bromley Pallet Recyclers of Illinois LLC
|  |  | Bromley Pallet Recyclers of Indiana LLC
|  |  | Bromley Pallet Recyclers of Ohio LLC
|  |  | Bromley Pallet Recyclers of Tennessee LLC
|  |  | Bromley Pallet Recyclers, Inc
|  |  | Bromley Pallet Recyclers, LLC
20004058 | Freedom Communications, Inc. | Kenneth R. Thomson | The Thomson Company, Inc.
20004059 | Huhtamaki Van Leer Oyi | Graphic Packaging International Corporation | Graphic Packaging Corporation
20004066 | Raymond F. Kennedy | Masco Corporation | Masco Corporation
20004068 | Invemed Catalyst Fund, L.P. | Softbank Corp. | Key3Media Group, Inc.
20004069 | Bank of Montreal | Roger L. Freeman | Freeman Wellwood & Co., Inc.

FOR FURTHER INFORMATION CONTACT: Sandra M. Peay or Parcellena P. Fielding, Contact Representatives, Federal Trade Commission, Premerger Notification Office, Bureau of Competition, Room 303, Washington, DC 20580, (202) 326-3100.

By Direction of the Commission.
Donald S. Clark,
Secretary.

[FR Doc. 00-19352 Filed 7-31-00; 8:45 am]

BILLING CODE 6750-01-M